DEPARTMENT OF DEFENSE

Department of the Army; Army Corps of Engineers

Notice of Solicitation of Applications for Stakeholder Representative Members of the Missouri River Recovery Implementation Committee

AGENCY: Department of the Army, U.S. Army Corps of Engineers, DoD.

ACTION: Notice.

SUMMARY: The Commander of the Northwestern Division of the U.S. Army Corps of Engineers (Corps) is soliciting applications to fill vacant stakeholder representative member positions on the Missouri River Recovery Implementation Committee (MRRIC). Members are sought to fill vacancies on a committee to represent various categories of interests within the Missouri River basin. The MRRIC was formed to advise the Corps on a study of the Missouri River and its tributaries and to provide guidance to the Corps with respect to the Missouri River recovery and mitigation activities currently underway. The Corps established the MRRIC as required by the U.S. Congress through the Water Resources Development Act of 2007 (WRDA), section 5018.

DATES: The agency must receive completed applications no later than July 31, 2009.

ADDRESSES: Mail completed applications to U.S. Army Corps of Engineers, Omaha District (Attn: MRRIC), 1616 Capitol Avenue, Omaha, NE 68102-4901 or e-mail completed applications to info@mrric.org. Please put “MRRIC” in the subject line.

FOR FURTHER INFORMATION CONTACT: Mary S. Roth, 402-995-2919.

SUPPLEMENTARY INFORMATION: The operation of the MRRIC is in the public interest and provides support to the Corps in performing its duties and responsibilities under the Endangered Species Act, 16 U.S.C. 1531 et seq.; Sec. 601(a) of the Water Resources Development Act (WRDA) of 1986, Public Law 99-662; Sec. 334(a) of WRDA 1999, Public Law 106-53, and Sec. 5018 of WRDA 2007, Public Law 110-114. The Federal Advisory Committee Act, 5 U.S.C. App. 2, does not apply to the MRRIC.

A Charter for the MRRIC has been developed and should be reviewed prior to applying for a stakeholder representative membership position on the Committee. The Charter, operating procedures, and stakeholder application forms are available electronically at http://www.MRRIC.org.

Purpose and Scope of the Committee. The duties of MRRIC cover two areas:

1. The Committee provides guidance to the Corps, and affected Federal agencies, State agencies, or Native American Indian Tribes on a study of the Missouri River and its tributaries to determine the actions required to mitigate losses of aquatic and terrestrial habitat, to recover federally listed species protected under the Endangered Species Act, and to restore the river's ecosystem to prevent further declines among other native species. This study is identified in section 5018(a) of the WRDA. It will result in a single, comprehensive plan to guide the implementation of mitigation, recovery, and restoration activities in the Missouri River Basin. This plan is referred to as the Missouri River Ecosystem Restoration Plan (MRERP). For more information about the MRERP go to http://www.MRERP.org.

2. The MRRIC also provides guidance to the Corps with respect to the Missouri River recovery and mitigation plan currently in existence, including recommendations relating to changes to the implementation strategy from the use of adaptive management; coordination of the development of consistent policies, strategies, plans, programs, projects, activities, and priorities for the Missouri River recovery and mitigation plan. Information about the Missouri River Recovery Program is available at http://www.MoRiverRecovery.org.

3. Other duties of MRRIC include exchange of information regarding programs, projects, and activities of the agencies and entities represented on the Committee to promote the goals of the Missouri River recovery and mitigation plan; establishment of such working groups as the Committee determines to be necessary to assist in carrying out the duties of the Committee, including duties relating to public policy and scientific issues; facilitating the resolution of interagency and intergovernmental conflicts between entities represented on the Committee associated with the Missouri River recovery and mitigation plan; coordination of scientific and other research associated with the Missouri River recovery and mitigation plan; and annual preparation of a work plan and associated budget requests.

Administrative Support. To the extent authorized by law and subject to the availability of appropriations, the Corps provides funding and administrative support for the Committee.

Committee Membership. Federal agencies with programs affecting the Missouri River may be members of the MRRIC through a separate process with the Corps. States and Federally recognized Native American Indian tribes, as described in the Charter, are eligible for Committee membership through an appointment process. Interested State and Tribal government representatives should contact the Corps for information about the appointment process.

This Notice is for individuals interested in serving as a stakeholder member on the Committee. In accordance with the Charter for the MRRIC, stakeholder membership is limited to 28 people, with each member having an alternate. Members and alternates must be able to demonstrate that they meet the definition of “stakeholder” found in the Charter of the MRRIC. Applications are currently being accepted for representation in the stakeholder interest categories listed below:

a. Navigation;

b. Irrigation;

c. Water Quality;

d. Waterways Industries;

e. Major Tributaries;

f. Thermal Power;

g. Hydropower;

h. Local Government; and

i. Environmental/Conservation Organizations.

Terms of stakeholder representative members of the MRRIC are three years. There is no limit to the number of terms a member may serve. Incumbent Committee members seeking reappointment do not need to re-submit an application. However, they must submit a renewal letter and related materials as outlined in the “Streamlined Process for Existing Members” portion of the document Process for Filling MRRIC Stakeholder Vacancies (http://www.MRRIC.org).

Members and alternates of the Committee will not receive any compensation from the Federal government for carrying out the duties of the MRRIC. Travel expenses incurred by members of the Committee will not be reimbursed by the Federal government.

Application for Stakeholder Membership. Persons who believe that they are or will be affected by the Missouri River recovery and mitigation activities and are not employees of Federal agencies, tribes, or State agencies, may apply for stakeholder membership on the MRRIC. Applications for stakeholder membership may be obtained electronically at http://www.MRRIC.org. Applications may be e-mailed or mailed to the location listed (see ADDRESSES). In order to be considered, each application must include:

1. The name of the applicant and the primary stakeholder interest category that person wishes to represent;

2. A written statement describing how the applicant meets the criteria for membership (described below) and how their contributions will fulfill the roles and responsibilities of MRRIC;

3. Evidence that demonstrates that the applicant represents an interest group(s) in the Missouri River basin.

To be considered, the application must be complete and received by the close of business on July 31, 2009, at the location indicated (see ADDRESSES). Full consideration will be given to all complete applications received by the specified due date.

Persons wishing to apply as stakeholder members are strongly encouraged to identify an appropriate individual to serve as his/her alternate. Alternates should apply with the individual seeking membership in the same interest area. Alternates must apply in the same manner as stakeholder members and should include a recommendation from a member applicant as well as the interest group(s) they represent.

Application Review Process. Committee stakeholder applications will be forwarded to the current members of the MRRIC. The MRRIC will provide membership recommendations to the Corps as described in Attachment A of the Process for Filling MRRIC Stakeholder Vacancies document (http://www.MRRIC.org). The Corps is responsible for appointing stakeholder members. The Corps will consider applications using the following criteria:

• Ability to commit the time required.

• Commitment to make a good faith (as defined in the Charter) effort to seek balanced solutions that address multiple interests and concerns.

• Agreement to support and adhere to the approved MRRIC Charter and Operating Procedures.

• Demonstration of a formal designation or endorsement by an organization, local government, or constituency as its preferred representative.

• Demonstration of an established communication network to keep constituents informed and efficiently seek their input when needed.

• Ability to contribute to the overall balance of representation on MRRIC.

All applicants will be notified in writing as to the final decision about their application.

Certification. I hereby certify that the establishment of the MRRIC is necessary and in the public interest in connection with the performance of duties imposed on the Corps by the Endangered Species Act and other statutes.

Mary S. Roth,
Project Manager for the Missouri River Recovery Implementation Committee (MRRIC), U.S. Army Corps of Engineers, Omaha District, 1616 Capitol Avenue, Omaha, NE 68102-4901.

[FR Doc. E9-15411 Filed 6-29-09; 8:45 am]

BILLING CODE 3720-58-P